DEPARTMENT OF COMMERCE

United States Patent and Trademark Office

[Docket No. PTO-P-2023-0007]

Grant of Interim Extension of the Term of U.S. Patent No. 6,929,639—POLARX® (Cryoablation Balloon Catheter)

AGENCY: United States Patent and Trademark Office, Commerce.

ACTION: Notice of interim patent term extension.

SUMMARY: The United States Patent and Trademark Office has issued a certificate under 35 U.S.C. 156(d)(5) for a one-year interim extension of the term of U.S. Patent No. 6,929,639.

FOR FURTHER INFORMATION CONTACT: Andrea Grossman, Legal Advisor (telephone (571) 270-3314; email andrea.grossman@uspto.gov) or Kathleen Kahler Fonda, Senior Legal Advisor (telephone (571) 272-7754; email kathleen.fonda@uspto.gov). Alternatively, mail may be addressed to Commissioner for Patents, Mail Stop Hatch-Waxman PTE, P.O. Box 1450, Alexandria, VA, 22313-1450, and marked to the attention of Ms. Grossman or Ms. Fonda.

SUPPLEMENTARY INFORMATION: Section 156 of Title 35, United States Code, generally provides that the term of a patent may be extended for a period of up to five years if the patent claims a product, or a method of making or using a product, that has been subject to certain defined regulatory review, and that the patent may be extended for interim periods of up to one year if the regulatory review is anticipated to extend beyond the expiration date of the patent.

On February 10, 2023, Boston Scientific Scimed, Inc., the patent owner of record, timely filed an application under 35 U.S.C. 156(d)(5) for an interim extension of the term of U.S. Patent No. 6,929,639. The patent claims a cryoablation balloon catheter, POLARX®. The application for patent term extension indicates that Premarket Approval Application P220032 was submitted to the Food and Drug Administration on December 20, 2022.

Review of the patent term extension application indicates that, except for permission to market or use the product commercially, the subject patent would be eligible for an extension of the patent term under 35 U.S.C. 156, and that the patent should be extended for one year as required by 35 U.S.C. 156(d)(5)(B). Because the regulatory review period will continue beyond the original expiration date of the patent, March 16, 2023, interim extension of the patent term under 35 U.S.C. 156(d)(5) is appropriate.

An interim extension under 35 U.S.C. 156(d)(5) of the term of U.S. Patent No. 6,929,639 is granted for a period of one year from the original expiration date of the patent.

Robert Bahr,
Deputy Commissioner for Patents, United States Patent and Trademark Office.

[FR Doc. 2023-04661 Filed 3-6-23; 8:45 am]

BILLING CODE 3510-16-P